DEPARTMENT OF COMMERCE

Bureau of the Census

Request for Nominations of Members To Serve on the National Advisory Committee on Racial, Ethnic, and Other Populations; Extension of Nominations Submission Period

AGENCY: Bureau of the Census, Department of Commerce.

ACTION: Notice of request for nominations; extension of nominations submission period.

SUMMARY: The Bureau of the Census (Census Bureau) is issuing this document to extend the nominations submission period for the Request for Nominations of Members to Serve on the National Advisory Committee on Racial, Ethnic, and Other Populations, which was published in the Federal Register on June 4, 2018. The extension is in response to public demand for more time to submit nominations for the Committee. The nominations submission period, which would have ended on August 3, 2018, is now extended until September 4, 2018.

DATES: Nomination submissions on the notice of request for nominations published on June 4, 2018 (83 FR 25643) must be received by September 4, 2018. The Census Bureau will retain nominations received after this date for consideration should additional vacancies occur.

ADDRESSES: Please submit nominations to the census.national.advisory.committee@census.gov (subject line “2018 NAC Nominations”) or by letter submission to Tara Dunlop Jackson, Committee Liaison Officer, 2018 NAC Nominations, Department of Commerce, U.S. Census Bureau, Room 8H177, 4600 Silver Hill Road, Washington, DC 20233.

FOR FURTHER INFORMATION CONTACT: Tara Dunlop Jackson, Committee Liaison Officer, Customer Liaison Marketing Services Office, U.S. Census Bureau, Room 8H177, 4600 Silver Hill Road, Washington, DC 20233, at (301) 763-5222 or census.national.advisory.committee@census.gov. For TTY callers, please use the Federal Relay Service at 1-800-877-8339.

SUPPLEMENTARY INFORMATION:

Background

The National Advisory Committee on Racial, Ethnic, and Other Populations was established in accordance with the Federal Advisory Committee Act (FACA), Title 5, United States Code, Appendix 2. For more information about the Committee, membership, and the nomination process, please see the original document on the notice of request for nominations published on June 4, 2018 (83 FR 25643).

In response to individuals and organizations who have requested more time to submit nominations of members to serve on the Committee, the Census Bureau has decided to extend the nominations submission period to September 4, 2018. This document announces the extension of the nominations submission period.

Dated: July 20, 2018.
Ron S. Jarmin,
Associate Director for Economic Programs, Performing the Non-Exclusive Functions and Duties of the Director, Bureau of the Census.

[FR Doc. 2018-16020 Filed 7-26-18; 8:45 am]

BILLING CODE 3510-07-P